ENVIRONMENTAL PROTECTION AGENCY

[FRL-7067-8; CWA-HQ-2001-6022]

Clean Water Act Class II: Proposed Administrative Settlement, Penalty Assessment and Opportunity to Comment Regarding Standard Steel, a Division of Freedom Forge Corporation

AGENCY: Environmental Protection Agency (EPA).

ACTION: Notice.

SUMMARY: EPA has entered into a consent agreement with Standard Steel, a Division of Freedom Forge Corporation, to resolve violations of the Clean Water Act (“CWA”), and its implementing regulations. Standard Steel failed to prepare a complete Spill Prevention Control and Countermeasure (“SPCC”) plan, failed to provide secondary containment, and failed to complete and maintain certification forms for two facilities where they stored oil or oil products in above ground tanks. Standard Steel failed to meet all requirements of its General Permit as required by its National Pollutant Discharge Elimination System (NPDES) permit for one facility. EPA, as authorized by CWA section 311(b)(6), 33 U.S.C. 1321(b)(6), and CWA section 309(g), 33 U.S.C. 1319(g) has assessed a civil penalty for these violations. The Administrator, as required by CWA section 311(b)(6)(C), 33 U.S.C. 1321(b)(6)(C), and CWA section 309(g)(4)(A), 33 U.S.C. 1319(g)(4)(A), is hereby providing public notice of, and an opportunity for interested persons to comment on, this consent agreement and proposed final order.

DATES: Comments are due on or before October 29, 2001.

ADDRESSES: Mail written comments to the Enforcement & Compliance Docket and Information Center (2201A), Docket Number EC-2001-006, Office of Enforcement and Compliance Assurance, U.S. Environmental Protection Agency, 1200 Pennsylvania Avenue, NW., Mail Code 2201A, Washington, DC 20460. (Comments may be submitted on disk in WordPerfect 8.0 or earlier versions.) Written comments may be delivered in person to: Enforcement and Compliance Docket Information Center, U.S. Environmental Protection Agency, Rm. 4033, Ariel Rios Bldg., 1200 Pennsylvania Avenue, NW., Washington, DC. Submit comments electronically to docket.oeca@epa.gov. Electronic comments may be filed online at many Federal Depository Libraries.

The consent agreement, the proposed final order, and public comments, if any, may be reviewed at the Enforcement and Compliance Docket Information Center, at the address noted above. Persons interested in reviewing these materials must make arrangements in advance by calling the docket clerk at 202-564-2614. A reasonable fee may be charged by EPA for copying docket materials.

FOR FURTHER INFORMATION CONTACT: Beth Cavalier, Multimedia Enforcement Division (2248-A), U.S. Environmental Protection Agency, 1200 Pennsylvania Avenue, NW., Washington, DC 20460; telephone (202) 564-3271; fax: (202) 564-9001; e-mail: cavalier.beth@epa.gov.

SUPPLEMENTARY INFORMATION: Electronic Copies: Electronic copies of this document are available from the EPA Home Page under the link “Laws and Regulations” at the Federal Register—Environmental Documents entry (http://www.epa.gov/fedrgstr).

I. Background

Standard Steel, a Division of Freedom Forge Corporation, an iron and steel minimill incorporated in the State of Delaware, located at 500 North Walnut Street, Burnham, Pennsylvania 17009, and at 107 Gertrude Street, Latrobe, Pennsylvania 15650, disclosed, pursuant to the EPA “Incentives for Self-Policing: Discovery, Disclosures, Correction and Prevention of Violations” (“Audit Policy”), 65 FR 19618 (April 11, 2000), that they failed to prepare complete SPCC plans for two facilities where they stored oil and oil products in above ground storage tanks, in violation of the CWA section 311(b)(3) and 40 CFR part 112. Standard Steel disclosed that it had not completed and maintained at the facility the certification form contained in appendix C to 40 CFR 112.20(e) and failed to have secondary containment, in violation of the CWA section 311(b)(3) and 40 CFR part 112. Standard Steel disclosed that they had failed to meet all requirements of their NPDES General Permit, specifically the requirements to conduct an annual site storm water compliance evaluation, to update documents relating to the facility's method to control storm water discharges, to update the emergency coordinator list, and to maintain a discharge certification and authorization to commit resources, at one facility in violation of CWA sections 301(a), and 402(a) and (p) and 40 CFR part 122.

EPA determined that Standard Steel met the criteria set out in the Audit Policy for a 100% waiver of the gravity component of the penalty. As a result, EPA waived the gravity based penalty ($137,500) and proposed a settlement penalty amount of one thousand, eight hundred and forty-five ($1,845). This is the amount of the economic benefit gained by Standard Steel, attributable to its delayed compliance with the SPCC regulations and NPDES General Permit conditions. Standard Steel has agreed to pay this amount in civil penalties. EPA and Standard Steel negotiated and signed an administrative consent agreement, following the Consolidated Rules of Procedure, 40 CFR 22.13, on September 12, 2001, (In Re: Standard Steel, a Division of Freedom Forge, Docket No. CWA-HQ-2001-6022). This consent agreement is subject to public notice and comment under CWA section 311(b)(6), 33 U.S.C. 1321(b)(6) and CWA section 309(g)(4)(A), 33 U.S.C. 1319(g)(4)(A).

Under CWA section 311(b)(6)(A), 33 U.S.C. 1321(b)(6)(A), any owner, operator, or person in charge of a vessel, onshore facility, or offshore facility from which oil is discharged in violation of the CWA section 311(b)(3), 33 U.S.C. 1321(b)(3), or who fails or refuses to comply with any regulations that have been issued under CWA section 311(j), 33 U.S.C. 1321(j), may be assessed an administrative civil penalty of up to $137,500 by EPA. Class II proceedings under CWA section 311(b)(6) are conducted in accordance with 40 CFR part 22.

Under CWA section 309(g)(1)(A), 33 U.S.C. 1319 (g)(1)(A), any person found in violation of any permit condition or limitation implementing any of such sections in a permit issued under the CWA section 402(a), 33 U.S.C. 1342(a), or the CWA section 301(a), 33 U.S.C. 1311(a), may be assessed an administrative civil penalty of up to $137,500 by EPA. Class II proceedings under CWA section 309(g)(1)(A) are conducted in accordance with 40 CFR part 22.

The procedures by which the public may comment on a proposed Class II penalty order, or participate in a Clean Water Act Class II penalty proceeding, are set forth in 40 CFR 22.45. The deadline for submitting public comment on this proposed final order is October 29, 2001. All comments will be transferred to the Environmental Appeals Board (“EAB”) of EPA for consideration. The powers and duties of the EAB are outlined in 40 CFR 22.04(a).

Pursuant to CWA section 311(b)(6)(C) and CWA section 309(g)(4)(A), EPA will not issue an order in this proceeding prior to the close of the public comment period.

Dated: September 19, 2001.
David A. Nielsen,
Director, Multimedia Enforcement Division, Office of Enforcement and Compliance Assurance.

[FR Doc. 01-24211 Filed 9-26-01; 8:45 am]

BILLING CODE 6560-50-P